GENERAL SERVICES ADMINISTRATION

[Notice-PBS-2022-06; Docket No. 2022-0002; Sequence No. 26]

Notice of Intent To Prepare an Environmental Impact Statement and Initiate Section 106 Consultation for Four Buildings at 202, 208-212, 214 and 220 South State Street, Chicago, Illinois, and Notice of Public Scoping Meetings and Comment Period; Correction

AGENCY: Public Buildings Service (PBS), General Services Administration (GSA).

ACTION: Notice; correction.

SUMMARY: This document corrects a billing code in a Federal Register notice published on Tuesday, November 1, 2022, that announced a comment request with intent to prepare for a public scoping meeting.

FOR FURTHER INFORMATION CONTACT: Mr. Joseph Mulligan, GSA, 230 S. Dearborn St., Suite 3600, Chicago, IL 60604; email: statestreet@gsa.gov; telephone: 312-810-2326.

SUPPLEMENTARY INFORMATION:

Correction

In the Federal Register of November 1, 2022, in FR Doc. 2022-23721 on page 65773, in column one, correct “Billing code 6820-A9-P” to read “Billing Code 6820-CF”.

William Renner,
Director, Facilities Management and Services Programs Division, U.S. General Services Administration.

[FR Doc. 2022-24219 Filed 11-4-22; 8:45 am]

BILLING CODE 6820-CF-P